DEPARTMENT OF COMMERCE

National Oceanic and Atmospheric Administration

RIN 0648-XU29

Western Pacific Fishery Management Council; Public Meeting

AGENCY: National Marine Fisheries Service (NMFS), National Oceanic and Atmospheric Administration (NOAA), Commerce.

ACTION: Notice of public meetings.

SUMMARY: The Western Pacific Fishery Management Council will hold public informational meetings on potential management measures for non-commercial fishing in the Rose Atoll Marine National Monument, Marianas Trench National Marine Monument, and Pacific Remote Islands Marine National Monument.

DATES: The meetings will be held on February 12, 2010, Tutuila, American Samoa; March 11, 2010, Rota, CNMI; March 12, 2010, Tinian, CNMI; and March 13, 2010, Saipan, CNMI. See SUPPLEMENTARY INFORMATION for specific times of the meetings.

ADDRESSES: See SUPPLEMENTARY INFORMATION for specific locations.

FOR FURTHER INFORMATION CONTACT: Eric Kingma, Western Pacific Fishery Management Council; telephone: (808) 522-8220.

SUPPLEMENTARY INFORMATION: In January 2009, former President George W. Bush designated the Rose Atoll, Marianas Trench, and Pacific Remote Islands as Marine National Monuments (Presidential Proclamations 8335, 8336 and 8337). In the Presidential Proclamations establishing these monuments, the Secretaries of Commerce and the Interior (Secretaries) were instructed to prohibit commercial fishing within the boundaries of the monuments, except for the Marianas Trench Marine National Monument where commercial fishing is only prohibited in the Islands Unit. For the Rose Atoll Monument, the Secretaries were instructed to consider permitting non-commercial and sustenance fishing and, after consultation with the American Samoa government, permitting traditional indigenous fishing. For the Islands Unit of the Marianas Trench Marine National Monument, the Secretaries are to ensure that any sustenance, recreational, or traditional indigenous fishing in the Islands Unit be managed as a sustainable activity. Proclamation 8335 also provided that Marianas Trench Marine National Monument management plans shall provide for traditional access by indigenous persons, as identified by the Secretaries in consultation with the Commonwealth of the Northern Marianas Islands (CNMI) government, for culturally significant subsistence, cultural and religious uses within the Islands Unit. Presidential Proclamation 8337 for the Pacific Remote Islands Marine National Monument states that non-commercial fishing may be permitted and directs the Secretaries to provide a process to ensure that recreational fishing be sustainable. The Presidential Proclamations establishing the monuments identified the Magnuson-Stevens Fishery Conservation and Management Act (MSA; 16 U.S.C. 1801 et seq.) as the statutory authority to develop regulations related to fisheries. In following the MSA process to promulgate fishing regulations for the Rose Atoll, Islands Unit of the Marianas Trench, and Pacific Remote Islands Marine National Monuments, the National Marine Fisheries Service (NMFS), which acts on behalf of the Secretary of Commerce, has requested that the Western Pacific Fishery Management Council undertake the process to recommend definitions and fishing regulations for the types of fishing activities mentioned above.

The Western Pacific Fishery Management Council will hold public meetings to gather information and views from the public regarding potential management measures for non-commercial fishing in the Rose Atoll, Islands Unit of the Marianas Trench, and Pacific Remote Islands Marine National Monuments as follows:

1. February 12, 2010. Tutuila, American Samoa.

From 5 p.m. to 9 p.m. at Sadies by the Sea. Main Rd, Pago Pago, Tutuila, American Samoa 96799.

2. March 11, 2010, Rota, CNMI.

From 6 p.m. to 9 p.m. at the Rota Round House. Rota, CNMI 96951

3. March 12, 2010, Tinian, CNMI.

From 6 p.m. to 9 p.m. at the Tinian Elementary School. San Jose Village, Tinian 96952

4. March 13, 2010, Saipan, CNMI.

From 6 p.m. to 9 p.m. at the Fiesta Resort and Spa, Coral Tree Avenue, Saipan, MP 96950

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Eric Kingma (see FOR FURTHER INFORMATION) at least 3 days prior to the meeting date.

Dated: February 4, 2010.
Tracey L. Thompson,
Acting Director, Office of Sustainable Fisheries, National Marine Fisheries Service.

[FR Doc. 2010-2862 Filed 2-9-10; 8:45 am]

BILLING CODE 3510-22-S